DEPARTMENT OF ENERGY

Energy Information Administration

Agency Information Collection Activities: Submission for OMB Review; Comment Request

AGENCY: Energy Information Administration (EIA), Department of Energy (DOE).

ACTION: Agency information collection activities: Submission for OMB review; comment request.

SUMMARY: The EIA has submitted the energy information collections listed at the end of this notice to the Office of Management and Budget (OMB) for review and a three-year extension under section 3507(h)(1) of the Paperwork Reduction Act of 1995 (Pub. L. 104-13) (44 U.S.C. 3501 et seq).

DATES: Comments must be filed on or before March 6, 2003. If you anticipate that you will be submitting comments but find it difficult to do so within that period, you should contact the OMB Desk Officer for DOE listed below as soon as possible.

ADDRESSES: Send comments to the OMB Desk Officer for DOE, Office of Information and Regulatory Affairs, Office of Management and Budget, 726 Jackson Place NW., Washington, DC 20503. The OMB DOE Desk Officer may be telephoned at (202) 395-3084. (A copy of your comments should also be provided to EIA's Statistics and Methods Group at the address below.)

FOR FURTHER INFORMATION CONTACT: Requests for additional information should be directed to Grace Sutherland, Statistics and Methods Group, (EI-70), Forrestal Building, U.S. Department of Energy, Washington, DC 20585-0670. Ms. Sutherland may be contacted by telephone at (202) 426-1068, FAX at (202) 426-1081, or e-mail at Grace.Sutherland@eia.doe.gov.

SUPPLEMENTARY INFORMATION: This section contains the following information about the energy information collections submitted to OMB for review: (1) The collection numbers and title; (2) the sponsor (i.e., the Department of Energy component); (3) the current OMB docket number (if applicable); (4) the type of request (i.e, new, revision, extension, or reinstatement); (5) response obligation (i.e., mandatory, voluntary, or required to obtain or retain benefits); (6) a description of the need for and proposed use of the information; (7) a categorical description of the likely respondents; and (8) an estimate of the total annual reporting burden (i.e., the estimated number of likely respondents times the proposed frequency of response per year times the average hours per response).

1. Forms EIA-846 A/B/C, “Manufacturing Energy Consumption Survey”.

2. Energy Information Administration.

3. OMB Number 1905-0169.

4. Three-year extension.

5. Mandatory.

6. EIA-846 (A), (B), and (C) will be used to collect data on energy consumption and related subjects for the manufacturing sector of the U.S. economy. In addition to being used for the National Energy Modeling System, the MECS is used to augment a database on the manufacturing sector. Respondents are manufacturing establishments. In addition to the changes proposed in an earlier August 26, 2002 Federal Register notice (67 FR 54797) soliciting public comments on MECS, EIA is proposing to add questions to the MECS regarding the production of steam and other thermal output. The first two items will be located in what was Section 3 of 1998 MECS questionnaires. The first question will ask for the amount of steam produced within onsite combined-heat-power/cogeneration units and the second question will ask for the amount of steam produced in steam only (or hot water only) boilers. These changes mirror what is currently asked on Section 2, Electricity. The MECS has always asked for the amount of steam and hot water produced from renewable energy, such as from solar and geothermal means, and will continue to do so.

Another related change is a modification to the end-use matrix. EIA proposes to subdivide the current end-use category “boiler fuel” into consumption used for “boiler fuel in a combined-heat-power/cogeneration process” and “any boiler fuel not included (in the previous category). Please note that in those questions and others, no end-use categorization of steam and hot-water is required.

These additional changes are proposed because of the increasing focus on issues related to combined heat and power and the need for information on this topic. As steam and electricity production leave the direct control of the manufacturing plant, EIA needs a better understanding of the effects on energy consumption.

7. Business or other for-profit.

8. 55,291 (18,000 respondents X 1 response per year X 9.22 hours) With a 3-year approval, the burden is prorated over the three-year period and averaged from a total of 165,873 hours.

Authority: Section 3507(h)(1) of the Paperwork Reduction Act of 1995 (Pub. L. No. 104-13).

Issued in Washington, DC, January 21, 2003.
Jay H. Casselberry,
Agency Clearance Officer, Statistics and Methods Group, Energy Information Administration.

[FR Doc. 03-2509 Filed 2-3-03; 8:45 am]

BILLING CODE 6450-01-P